COMMISSION ON CIVIL RIGHTS

Sunshine Act Notice

AGENCY: United States Commission on Civil Rights.

ACTION: Notice of Business Meeting.

DATE AND TIME: Friday, April 11, 2014; 9:30 a.m. EST

PLACE: 1331 Pennsylvania Ave. NW., Suite 1150, Washington, DC 20425.

Meeting Agenda

I. Approval of Agenda

II. Program Planning

• Discussion of Concept Papers and Future Briefings

III. Management and Operations

• Staff Director's Report

IV. State Advisory Committee (SAC) Appointments

• Idaho

V. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: March 31, 2014.
Marlene Sallo,
Staff Director.

[FR Doc. 2014-07515 Filed 4-1-14; 11:15 am]

BILLING CODE 6335-01-P